DEPARTMENT OF COMMERCE

International Trade Administration

Executive-Led Indonesia Vietnam Infrastructure Business Development Mission Statement—Clarification and Amendment

AGENCY: International Trade Administration, Department of Commerce.

ACTION: Notice.

SUMMARY: The United States Department of Commerce, International Trade Administration, U.S. and Foreign Commercial Service (CS) is publishing this supplement to the Notice of the Executive-Led Indonesia Vietnam Infrastructure Business Development Mission Statement, 77 FR, No. 131, July 9, 2012, to amend the Notice to revise the dates of the application deadline from August 31, 2012 to the new deadline of September 21, 2012.

SUPPLEMENTARY INFORMATION: Amendments to Revise the Dates and Provide for Selection of Applicants on a Rolling Basis:

Background

Recruitment for this Mission began in July 2012. Due to summer holidays, it has been determined that an additional time is needed to allow for additional recruitment and marketing in support of the mission. Applications will now be accepted through September 21, 2012 (and after that date if space remains and scheduling constraints permit), interested U.S. infrastructure firms and trade organizations which have not already submitted an application are encouraged to do so.

Amendments

1. For the reasons stated above, the Timeframe for Recruitment and Applications section of the Notice of the Indonesia Vietnam Infrastructure Business Development Mission Statement, 77 FR, No. 131, July 9, 2012, is amended to read as follows:

Timeframe for Recruitment and Applications

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows. Recruitment for this mission will conclude no later than September 21, 2012. The U.S. Department of Commerce will review applications and make selection decisions on a rolling basis beginning August 31, 2011. We will inform all applicants of selection decisions no later than October 5, 2012. Applications received after the September 21, 2012 deadline will be considered only if space and scheduling constraints permit.

FOR FURTHER INFORMATION CONTACT: Jennifer Andberg, Office of Business Liaison, Phone: 202-482-1360; Fax: 202-482-4054, Email: businessliaison@doc.gov.

Elnora Moye,
Trade Program Assistant.

[FR Doc. 2012-22007 Filed 9-6-12; 8:45 am]

BILLING CODE 3510-FP-P